SOCIAL SECURITY ADMINISTRATION

[Docket No. SSA 2009-0043]

Privacy Act of 1974, as Amended; Computer Matching Program (Social Security Administration/Railroad Retirement Board (SSA/RRB))—Match Number 1308

AGENCY: Social Security Administration (SSA).

ACTION: Notice of renewal of an existing computer matching program, scheduled to expire on April 1, 2010.

SUMMARY: In accordance with the Privacy Act, as amended, this notice announces renewal of an existing computer matching program we conduct with RRB.

DATES: We will file a report of the subject matching program with the Committee on Homeland Security and Governmental Affairs of the Senate; the Committee on Oversight and Government Reform of the House of Representatives; and the Office of Information and Regulatory Affairs, Office of Management and Budget (OMB). Renewal of the matching program will be effective as indicated below.

ADDRESSES: Interested parties may comment on this notice by either telefax to (410) 965-0201 or writing to the Deputy Commissioner for Budget, Finance and Management, 800 Altmeyer Building, 6401 Security Boulevard, Baltimore, MD 21235-6401. All comments received will be available for public inspection at this address.

FOR FURTHER INFORMATION CONTACT: The Deputy Commissioner for Budget, Finance and Management as shown above.

SUPPLEMENTARY INFORMATION:

A. General

The Computer Matching and Privacy Protection Act of 1988 Public Law (Pub. L.) 100-503, amended the Privacy Act (5 U.S.C. 552a) by describing the conditions under which computer matching involving the Federal Government could be performed and adding certain protections for persons applying for, and receiving Federal benefits. Section 7201 of the Omnibus Budget Reconciliation Act of 1990 (Pub. L. 101-508) further amended the Privacy Act regarding protections for such persons.

The Privacy Act, as amended, regulates the use of computer matching by Federal agencies when records in a system of records are matched with other Federal, State or local government records. It requires Federal agencies involved in computer matching programs to:

(1) Negotiate written agreements with the other agency or agencies participating in the matching programs;

(2) Obtain approval of the matching agreement by the Data Integrity Boards (DIB) of the participating Federal agencies;

(3) Publish notice of the computer matching program in the Federal Register;

(4) Furnish detailed reports about matching programs to Congress and OMB;

(5) Notify applicants and beneficiaries that their records are subject to matching; and

(6) Verify match findings before reducing, suspending, terminating or denying a person's benefits or payments.

B. SSA Computer Matches Subject to the Privacy Act

We have taken action to ensure that all our computer matching programs comply with the requirements of the Privacy Act, as amended.

Dated: January 25, 2010.
Michael G. Gallagher,
Deputy Commissioner for Budget, Finance and Management.

Notice of Computer Matching Program, SSA With RRB

A. Participating Agencies

SSA and RRB.

B. Purpose of the Matching Program

The purpose of this matching program is to establish conditions, terms and safeguards under which RRB agrees to disclose RRB annuity payment data to us. This disclosure provides us with information necessary to verify a person's self-certification of eligibility for prescription drug subsidy assistance under the Medicare Prescription Drug, Improvement and Modernization Act of 2003 (MMA). The disclosure enables us to implement a Medicare outreach program mandated by section 1144 of title XI of the Social Security Act (Act). Information disclosed by RRB helps us identify and determine eligibility for Medicare Savings Programs (MSP) and subsidized Medicare prescription drug coverage and to identify these persons to the State agencies that administer these programs.

C. Authority for Conducting the Matching Program

Legal authority for us to conduct this matching activity is contained in section 1860D-14 (42 U.S.C. 1395w-114) and section 1144 (42 U.S.C. 1320b-14) of the Act.

D. Categories of Records and Persons Covered by the Matching Program

1. Specified Data Elements Used in the Match

a. RRB electronically furnishes us with the following RRB annuitant data: name, Social Security number, date of birth, RRB claim number, and annuity payment.

b. We will match this file against the Medicare database (MDB).

2. Systems of Records

RRB provides us with electronic files containing RRB annuity payment, address changes and subsidy changing events data on qualified Medicare eligible RRB beneficiaries from its systems of records, RRB-22 Railroad Retirement Survivors and Pension Benefits Systems (CHICO). RRB also provides us with electronic files of all qualified RRB beneficiaries from its system of records, RRB-20 (Medicare) and newly qualified RRB beneficiaries from RRB's Post-Entitlement System (PSRRB). Pursuant to 5 U.S.C. 552a(b)(3), RRB has established routine uses to disclose the subject information.

We will match the RRB information with the electronic data from our system of records, No. 60-0321, MDB.

E. Inclusive Dates of the Matching Program

The matching program will become effective no sooner than 40 days after notice of the matching program is sent to Congress and OMB, or 30 days after publication of this notice in the Federal Register, whichever date is later. The matching program will continue for 18 months from the effective date and may be extended for an additional 12 months thereafter, if certain conditions are met.

[FR Doc. 2010-2024 Filed 1-29-10; 8:45 am]

BILLING CODE 4191-02-P